COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: March 26, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On November 13, December 8, and December 29, 2000 and January 5, 2001, the Committee for Purchase From People Who Are Blind or Severely Disabled published notices (65 FR 67714, 76986 and 82974 and 66 FR 1076) of proposed additions to the Procurement List. After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities:

Chalkboard

6910-04-000-4482

6910-04-000-4485

Services:

Base Supply Center, Fort Buchanan, Fort Buchanan, Puerto Rico

Food Service, EOD Dining Facility, Eglin Air Fore Base, Florida

Janitorial/Custodial

Basewide, Redstone Arsenal, Alabama

Lewiston-Queenston and Whirlpool Rapids Bridges, Niagara Falls, New York

Max Rosenn Courthouse, 197 South Main Street, Wilkes-Barre, Pennsylvania

VA Outpatient Clinic, Charleston, West Virginia

Warehousing & Distribution Service

Defense Supply Center—Philadelphia, Philadelphia, Pennsylvania

This action does not affect current contracts awarded prior to the effective date of this addition or options that may be exercised under those contracts.

G. John Heyer,
General Counsel.

[FR Doc. 01-4526 Filed 2-22-01; 8:45 am]

BILLING CODE 6353-01-P